DEPARTMENT OF HEALTH AND HUMAN SERVICES

Centers for Medicare & Medicaid Services

[Document Identifier: CMS-10398 #68]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by April 30, 2025.

ADDRESSES: When commenting, please reference the applicable form number (CMS-10398 #68) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #68/OMB control number: 0938-1148, Room C4-26-05, 7500 Security Boulevard, Baltimore, MD 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION: Following is a summary of the use and burden associated with the subject information collection(s). More detailed information can be found in the collection's supporting statement and associated materials (see ADDRESSES).

Generic Information Collection

1. Title of Information Collection: State Plan Amendment (SPA) Template for Section 1905(a)(29) of the Social Security Act Medication Assisted Treatment (MAT); Type of Information Collection Request: Revision of a currently approved collection; Use: Under section 1902(a)(10) of the Social Security Act (the Act), States may offer certain Medicaid benefits, at State option, to categorically needy and medically needy Medicaid beneficiaries. In 2018, section 1006(b) of the Substance Use-Disorder Prevention that Promotes Opioid Recovery and Treatment (SUPPORT) for Patients and Communities Act (herein referred to as the SUPPORT Act) established mandatory coverage of medication-assisted treatment (MAT) as a new Medicaid state plan benefit by adding section 1905(a)(29) of the Act for October 1, 2020 through September 30, 2025.

On December 30, 2020, CMS issued State Health Official Letter (SHO) #20-005 entitled, “Mandatory Medicaid State Plan Coverage of Medication-Assisted Treatment” which describes the requirements of the mandatory MAT benefit and opportunities for increasing treatment options for substance use disorders as described at section 1905(a)(29) of the Act and the process for an exemption from the mandatory coverage requirement if there was a documented shortage of qualified providers or facilities providing such treatment in either fee-for-service or managed care arrangements in accordance with section 1905(ee)(2) of the Act.

On March 9, 2024, section 201 of the Consolidated Appropriations Act, 2024 (CAA, 2024) made the mandatory MAT benefit permanent. Section 201 also amended section 1905(ee)(2) of the Act to allow states to request an exemption from the mandatory coverage requirement due to a documented provider shortage if the state re-certifies not less than every five years and to the satisfaction of the Secretary that the provider shortage continues. The process to request an exemption will be conducted every five years and is the same as described in SHO #20-005 except for and, as noted, the reference to the limited timeframe of this provision which has been removed.

On November 19, 2024, CMS issued State Medicaid Director Letter (SMD) #24-004 entitled “Extension of Medicaid Coverage of Substance Use Disorder Treatment and Managed Care Medical Loss Ratio Provisions in the Consolidated Appropriations Act, 2024”, providing subregulatory guidance to states regarding these requirements.

The amendments to the Act as a result of the passage of the SUPPORT Act and section 201 of the CAA, 2024, as well as the subregulatory guidance provided in SMD #24-004 provides the authority for States to add this mandatory Medicaid coverage for MAT. In this April 2025 iteration, we propose to update an active SPA template to comport with the statutory updates as described above now that the benefit is permanent.

Form Number: CMS-10398 #68 (OMB control number: 0938-1148); Frequency: Once and Occasionally; Affected Public: State, Local, or Tribal Governments; Number of Respondents: 56; Total Annual Responses: 56; Total Annual Hours: 1,400. (For policy questions regarding this collection contact: Marlana Thieler at 410-786-6274.)

William N. Parham, III,
Director, Division of Information Collections and Regulatory Impacts, Office of Strategic Operations and Regulatory Affairs.

[FR Doc. 2025-06400 Filed 4-15-25; 8:45 am]

BILLING CODE 4120-01-P